DEPARTMENT OF TRANSPORTATION

Federal Highway Administration

[FHWA Docket No. FHWA-2005-23112]

Motorcyclist Advisory Council to the Federal Highway Administration

AGENCY: Federal Highway Administration (FHWA), DOT.

ACTION: Notice of meeting of advisory committee.

SUMMARY: This document announces the first meeting of the Motorcyclist Advisory Council to the Federal Highway Administration (MAC-FHWA). The purpose of this meeting is to advise the Secretary of Transportation, through the Administrator of the Federal Highway Administration, on infrastructure issues of concern to motorcyclists, including (1) barrier design; (2) road design, construction, and maintenance practices; and (3) the architecture and implementation of intelligent transportation system technologies, pursuant to Section 1914 of the Safe, Accountable, Flexible, Efficient Transportation Equity Act: A Legacy for Users (SAFETEA-LU).

DATES: The first meeting of the MAC-FHWA is scheduled for October 24, 2006, from 8:30 a.m. until 4:30 p.m.

ADDRESS: The first MAC-FHWA meeting will be held at the Holiday Inn Capitol, 550 C Street, SW., Washington, DC 20024.

FOR FURTHER INFORMATION CONTACT: Mr. Michael Halladay, the Designated Federal Official, Office of Safety, 202-366-2288, (michael.halladay@dot.gov), or Dr. Morris Oliver, Office of Safety, 202-366-2251, (morris.oliver@dot.gov), Federal Highway Administration, 400 Seventh Street, SW., Washington, DC 20590.

SUPPLEMENTARY INFORMATION:

Background

On August 10, 2005, the President signed into law the Safe, Accountable, Flexible, Efficient Transportation Equity Act: A Legacy for Users (SAFETEA-LU) (Pub. L. 109-59, 119 Stat. 1144). Section 1914 of SAFETEA-LU mandates the establishment of the Motorcyclist Advisory Council as follows: “The Secretary, acting through the Administrator of the Federal Highway Administration, in consultation with the Committee on Transportation and Infrastructure of the House of Representatives and the Committee on Environment and Public Works of the Senate, shall appoint a Motorcyclist Advisory Council to coordinate with and advise the Administrator on infrastructure issues of concern to motorcyclists, including—

(1) barrier design;

(2) road design, construction, and maintenance practices; and

(3) the architecture and implementation of intelligent transportation system technologies.”

In addition, Section 1914 specifies the membership of the council: “The Council shall consist of not more than 10 members of the motorcycling community with professional expertise in national motorcyclist safety advocacy, including—

(1) at least—

(A) one member recommended by a national motorcyclist association;

(B) one member recommended by a national motorcycle riders foundation;

(C) one representative of the National Association of State Motorcycle Safety Administrators;

(D) two members of State motorcyclists' organizations;

(E) one member recommended by a national organization that represents the builders of highway infrastructure;

(F) one member recommended by a national association that represents the traffic safety systems industry; and

(G) one member of a national safety organization; and

(2) at least one, and not more than two, motorcyclists who are traffic system design engineers or State transportation department officials.”

To carry out this requirement, the FHWA published a notice of intent to form an advisory committee in the Federal Register on December 23, 2005 (70 FR 76353). This notice, consistent with the requirements of the Federal Advisory Committee Act (FACA), announced the establishment of the Council and invited comments and nominations for membership.

A total of forty-four (44) nominations were received to the docket for the motorcyclist advisory council; thirty-nine (39) were for specific individuals and five (5) nominated specific organizations. Many nominations came with multiple endorsements from Congress, motorcyclist organizations, and motorcycle companies. In addition, there were twenty-three (23) self-nominations. The FHWA selected the members based on elements such as consistency with the Congressional direction on the composition of the advisory council; recommendations received from associations and other organizations, Congressional recommendations; experience related to motorcyclist safety and transportation infrastructure; and geographical representation among the States. The ten (10) selected members, their roles, and who nominated them are as follows:

Ed Moreland, Vice President, Government Relations, American Motorcyclist Association (AMA), will serve as a member recommended by a national motorcyclist association. Mr. Moreland was recommended by Senator James Inhofe and Representatives Sherwood Boehlert, Peter DeFazio, Sam Graves and Thomas Petri, as well as Wayne T. Curtin (Harley Davidson Motorcycles) and Robert Razor (AMA). Mr. Moreland was also self-nominated.

Jeff Hennie, Vice President Government Relations, Motorcycle Riders Foundation, will serve as a member recommended by a national motorcycle riders foundation. Mr. Hennie was self-nominated.

Ken Kiphart, Chairperson and a member of the Executive Committee of the National Association of State Motorcycle State Administrators and Administrator of the Nevada Department of Public Safety, will serve as a representative of the National Association of State Motorcycle Safety Administrators. Mr. Kiphart was self-nominated.

Darrel Killion, State Coordinator for A Brotherhood for Awareness, Training and Education (ABATE) of South Dakota, will serve as a member of a State motorcyclist organization. Mr. Killion was recommended by Senators John Thune and Tim Johnson and Representative Stephanie Herseth. Mr. Killion was self-nominated.

Steven P. Zimmer, State Executive Director, American Bikers Aimed Toward Education (ABATE) of Ohio, will serve as a member of a State motorcyclist organization. Mr. Zimmer was recommended by Representative Ted Strickland. Mr. Zimmer was also self-nominated.

Gerald J. Salontai, P.E. President and CEO of Kleinfelder, Inc., will serve as a member recommended by a national organization that represents the builders of highway infrastructure. Mr. Salontai was recommended by the American Road and Transportation Builders Association (ARTBA).

Robert J. McClune, Executive Vice President and General Manager of North American Potters Industries, will serve as a member recommended by a national association that represents the traffic safety systems industry. Mr. McClune was recommended by the American Traffic Safety Services Association (ATSSA).

Kathy Van Kleeck, Vice President, Government Relations, Motorcycle Safety Foundation (MSF), will serve as a member of a national safety organization. Ms. Van Kleeck was recommended by Senator James Inhofe.

Mark Bloschock, P.E., Manager, Special Projects Branch, Texas Department of Transportation (TXDOT), will serve as a member who is a motorcyclist and a traffic systems design engineer or State transportation department official. Mr. Bloschock was recommended by the American Association of State Highway and Transportation Officials (AASHTO).

Donald Vaughn, Chief Engineer/Deputy Director of Operations Alabama Department of Transportation, will serve as a member who is a motorcyclist and a traffic systems design engineer or State transportation department official. Mr. Vaughn was recommended by the American Association of State Highway and Transportation Officials (AASHTO).

The FHWA anticipates that the MAC-FHWA will meet at least once a year, with meetings held in Washington, DC, and the FHWA will publish notices in the Federal Register to announce the times, dates, and locations of these meetings. Meetings of the Council are open to the public and time will be provided in each meeting's schedule for comments by members of the public. Attendance will necessarily be limited by the size of the meeting room. Members of the public may present oral or written comments at the meeting or may present written materials by providing copies to Ms. Fran Bents, Westat, 1650 Research Boulevard, Rockville, MD 20850-3195, (240) 314-7557, ten (10) days prior to the meeting.

The agenda topics for the meetings will include a discussion of the following issues: (1) Barrier design; (2) road design, construction, and maintenance practices; and (3) the architecture and implementation of intelligent transportation system technologies.

Conclusion: The first meeting of the Motorcyclist Advisory Council to the Federal Highway Administration will be held on October 24, 2006, at the Holiday Inn Capitol, 550 C Street, SW., Washington, DC 20024 from 8:30 a.m. until 4:30 p.m.

(Authority: Section 1914 of Pub. L. 109-59; Public L. 92-463, 5 U.S.C., App. II § 1.)

Issued on: September, 29, 2006.
J. Richard Capka,
Federal Highway Administrator.

[FR Doc. E6-16516 Filed 10-4-06; 8:45 am]

BILLING CODE 4910-22-P